Title 3—

The President

Proclamation 7575 of June 28, 2002

Lewis and Clark Bicentennial

By the President of the United States of America

A Proclamation

Nearly 200 years ago, President Thomas Jefferson sent an expedition westward to find and map a transcontinental water route to the Pacific Ocean. With approval from the Congress, Captains Meriwether Lewis and William Clark embarked on their legendary 3-year journey to explore the uncharted West. The expedition included 33 permanent party members, known as the Corps of Discovery.

Their effort to chart the area between the Missouri River and the Pacific Coast set these courageous Americans on a remarkable scientific voyage that changed our Nation. In successfully completing the overland journey between the Missouri and Columbia River systems, they opened the unknown West for future development. During their exploration, Lewis and Clark collected plant and animal specimens, studied Indian cultures, conducted diplomatic councils, established trading relationships with tribes, and recorded weather data. To accomplish their goals, the Corps of Discovery relied on the assistance and guidance of Sakajawea, a Shoshone Indian woman.

As we approach the 200th anniversary of Lewis and Clark's expedition, we commend their resourcefulness, determination, and bravery. This Bicentennial should also serve to remind us of our Nation's outstanding natural resources. Many of these treasures first detailed by Lewis and Clark are available today for people to visit, study, and enjoy. As the commemoration of this journey begins in 2003, I encourage all Americans to celebrate the accomplishments of Lewis and Clark and to recognize their contributions to our history.

NOW, THEREFORE, I, GEORGE W. BUSH, President of the United States of America, by virtue of the authority vested in me by the Constitution and laws of the United States, do hereby designate 2003 through 2006 as the Lewis and Clark Bicentennial. I ask all Americans to observe this event with appropriate activities that honor the achievements of the Lewis and Clark Expedition. I also direct Federal agencies to work in cooperation with each other, States, tribes, communities, and the National Council of the Lewis and Clark Bicentennial to promote educational, cultural, and interpretive opportunities for citizens and visitors to learn more about the natural, historical, and cultural resources that are significant components of the Lewis and Clark story.

IN WITNESS WHEREOF, I have hereunto set my hand this twenty-eighth day of June, in the year of our Lord two thousand two, and of the Independence of the United States of America the two hundred and twenty-sixth.

B

[FR Doc. 02-16965

Filed 7-2-02; 11:44 am]

Billing code 3195-01-P